DEPARTMENT OF THE INTERIOR

Fish and Wildlife Service

[FWS-R2-ES-2012-N099: FXES11120200000F2-112-FF02ENEH00]

Draft Environmental Impact Statement and Draft Habitat Conservation Plan for Incidental Take of 11 Federally Listed or Petitioned Species by the Edwards Aquifer Recovery Implementation Program in 8 Texas Counties

AGENCY: Fish and Wildlife Service, Interior.

ACTION: Notice of availability; announcement of public meetings; and request for comments.

SUMMARY: We, the U.S. Fish and Wildlife Service, announce the availability of the draft environmental impact statement and the draft Edwards Aquifer Recovery Implementation Program (EARIP) habitat conservation plan, under the National Environmental Policy Act of 1969. The EARIP has applied for an incidental take permit (TE63663A-0) under the Endangered Species Act of 1973, as amended, that would authorize incidental take of animal species and impacts to plant species (covered species) in all, or portions, of eight Texas counties.

DATES: Comment Period: To ensure consideration of your written comments, they must be received on or before close of business (4:30 p.m. C.S.T.) October 18, 2012.

Public Meetings: Seven public meetings will be held throughout the region affected by the management of the Edwards Aquifer. The dates and times for each meeting location (Corpus Christi, Kerrville, New Braunfels, San Antonio, San Marcos, Uvalde, and Victoria) will be announced in local newspapers at least 2 weeks before each meeting and will also be posted on the following Web sites: http://www.fws.gov/southwest/es/AustinTexas/ and http://earip.org.

ADDRESSES: To obtain documents for review, see Reviewing Documents in SUPPLEMENTARY INFORMATION.

To submit comments, please use one of the following methods, and note that your comment is in reference to the Edwards Aquifer Recovery Implementation Program (TE63663A-0):

• Email: fw2_aues_consult@fws.gov.

• U.S. Mail: Field Supervisor, Austin Ecological Services Field Office, 10711 Burnett Road, Suite 200, Austin, TX 78758-4460; telephone 512/490-0057.

• Fax: 512/490-0974.

• We will also accept written and oral comments at the public meetings (see DATES).

FOR FURTHER INFORMATION CONTACT: Mr. Adam Zerrenner, Field Supervisor, by U.S. mail at U.S. Fish and Wildlife Service, Austin Ecological Services Field Office, 10711 Burnett Road, Suite 200, Austin, TX 78758-4460; or by telephone 512/490-0057.

SUPPLEMENTARY INFORMATION: In accordance with the requirements of the National Environmental Policy Act of 1969 (NEPA) (42 U.S.C. 4321 et seq.), we advise the public that:

1. We have gathered the information necessary to determine impacts and formulate alternatives for the draft environmental impact statement (DEIS) related to potential issuance of an incidental take permit (ITP) to the Applicants; and

2. The Applicants have developed a draft habitat conservation plan (DHCP) as part of the application for an ITP, which describes the measures the Applicants have agreed to take to minimize and mitigate the effects of incidental take of covered species to the maximum extent practicable pursuant to section 10(a)(1)(B) of the Endangered Species Act of 1973 (Act), as amended (16 U.S.C. 1531 et seq.).

The Applicants have applied for an ITP (TE63663A-0) under section 10(a)(1)(B) of the Act. The requested ITP, which would be in effect for a period of 15 years if granted, would authorize incidental take of seven federally listed animal species (covered species), including the endangered fountain darter (Etheostoma fonticola), threatened San Marcos salamander (Eurycea nana), endangered San Marcos gambusia (Gambusia georgei), endangered Texas blind salamander (Typhlomolge [=Eurycea] rathbuni), endangered Peck's cave amphipod (Stygobromus pecki), endangered Comal Springs dryopid beetle (Stygoparnus comalensis), and the endangered Comal Springs riffle beetle (Heterelmis comalensis); as well as impacts to endangered Texas wild rice (Zizania texana). The requested ITP would also cover three petitioned species, including Edwards Aquifer diving beetle (Haideoporus texanus), Comal Springs salamander (Eurycea sp.), and Texas troglobitic water slater (Lirceolus smithii) in case they are listed during the duration of the ITP. As described in the DHCP, the proposed incidental take could occur in Bexar, Medina and Uvalde Counties, and portions of Atascosa, Caldwell, Comal, Guadalupe, and Hays Counties in Texas (Permit Area), and would result from activities associated with otherwise lawful activities including the regulation and use of groundwater for irrigation, industrial, municipal, domestic, and livestock purposes; the use of instream flows in the Comal River and San Marcos River for recreational uses; and other operational and maintenance activities that could affect Comal Springs, San Marcos Springs, and the associated river systems. The DEIS considers the direct, indirect, and cumulative effects of implementation of the HCP, including the measures that will be implemented to minimize and mitigate such impacts to the maximum extent practicable.

Take of listed plant species is not defined in the Act, although the Act does identify several prohibitions. However, because covered species in the EARIP HCP include both animals and a plant, in the following discussion we use the term “incidental take” when discussing impacts to covered plants, as well as actual incidental take of covered animals.

Background

We published a notice of intent (NOI) to prepare an environmental impact statement in the Federal Register on March 5, 2010 (75 FR 10305), and held public scoping meetings in connection with the requested permit. The NOI opened a comment period that lasted until June 3, 2010. A summary of comments provided during the 2010 scoping period, which included public meetings held that year in seven Texas cities as follows: Victoria on April 1, New Braunfels on April 12, Uvalde on April 14, San Marcos on April 19, San Antonio on April 26, Corpus Christi on April 28, and Kerrville on April 29, is available on the Service's Web site at http://www.fws.gov/southwest/es/AustinTexas/ and on the Applicants' Web site at http://earip.org.

The Edwards Aquifer Recovery Implementation Program (EARIP) comprises a diverse group of regional stakeholders from South Central Texas that undertook a collaborative, consensus-based process to develop a plan to protect and contribute to the recovery of listed species associated with Comal and San Marcos Springs while also protecting the Edwards Aquifer (Aquifer) as a water supply source. The EARIP completed a DHCP, and the Edwards Aquifer Authority; San Antonio Water Systems; City of New Braunfels, Texas; City of San Marcos, Texas; and Texas State University (collectively, the Applicants) have applied to the U.S. Fish and Wildlife Service (Service) for an ITP under the Act. The Applicants submitted the EARIP DHCP as part of the ITP application package. We prepared a DEIS that evaluates the permit application in accordance with the requirements of NEPA.

Proposed Action

The proposed action involves the issuance of an ITP by the Service for the Covered Activities in the Permit Area pursuant to section 10(a)(1)(B) of the Act. The ITP would cover “take” of the Covered Species associated with otherwise lawful activities including the regulation and use of groundwater for irrigation, industrial, municipal, domestic, and livestock purposes; the use of instream flows in the Comal River and San Marcos River for recreational uses; and other operational and maintenance activities that could affect Comal Springs, San Marcos Springs, and the associated river systems. The requested term of the ITP is 15 years. To meet the requirements of a section 10(a)(1)(B) permit, the Applicants have developed and propose to implement their DHCP, which describes the conservation measures the Applicants have agreed to undertake to minimize and mitigate the impacts of the proposed incidental take of the Covered Species to the maximum extent practicable, and ensures that incidental take will not appreciably reduce the likelihood of the survival and recovery of these species in the wild. This alternative provides a comprehensive mitigation approach for unavoidable impacts to Covered Species and reduces potential permit processing effort for the Service.

Other Alternatives Considered

We considered three alternatives to the proposed action.

1. No Action—No ITP would be issued. Under this alternative the management and use of the Aquifer and the use of areas associated with the Comal and San Marcos Springs would continue regardless of whether a section10(a)(1)(B) permit is sought or issued. The Applicants would continue to be subject to the take prohibitions of the ESA. Where potential impacts could not be avoided, and where a Federal nexus exists, measures designed to minimize and mitigate for the impacts would be addressed through individual formal or informal consultation with the Service. In the absence of a Federal nexus, the Applicants and other parties in the region would potentially need individual section 10(a)(1)(B) incidental take permits on a project-by-project basis if their activities might result in incidental take of Federally listed species within the proposed permit area. This project-by-project approach would be more time-consuming, less efficient, and could result in an isolated, independent mitigation approach that might be less beneficial to the covered species than the proposed regional permit.

2. Another considered alternative explored the use of expanded Aquifer Storage and Recovery (ASR) operations with associated infrastructure to supplement springflows at Comal and San Marcos Springs during drought conditions. This alternative contemplated implementation of an HCP and issuance of an ITP for covered activities similar to the preferred alternative. This alternative incorporates many of the minimization and mitigation measures proposed under the preferred alternative. This alternative differs from the preferred alternative primarily in the mechanism by which enhanced springflows would be achieved. This alternative relies on storage of Aquifer water in underground ASR facilities located in Bexar and Wilson Counties during periods of normal or above-normal precipitation. These stored waters would then be pumped through water transmission pipelines during drought conditions to be injected into recharge features in Comal County to supplement springflows at Comal and San Marcos Springs. This alternative achieves similar simulated springflows at Comal and San Marcos Springs when modeled over the period of record as the preferred alternative, though the construction, operation, and maintenance of the infrastructure required to supplement springflows has the potential to negatively affect additional listed species within the project study area, and there are unanswered questions related to the effects to water quality of storage and reuse of Aquifer water.

3. A third alternative contemplated regulatory approaches restricting region-wide Aquifer pumping to maintain springflows protective of the Covered Species. No HCP would be implemented under this alternative, and no ITP would be issued. Simulated springflows believed to be protective of the covered species during drought conditions could be maintained under this alternative, though the indirect and cumulative effects resulting from the proposed pumping restrictions and the costs associated with developing alternative water sources for human use would be expected to have significant negative socioeconomic impacts throughout the region. Because no ITP would be issued, the Applicants would continue to be subject to the take prohibitions of the ESA, and a project-by-project approach to mitigation of unavoidable impacts to listed species would be more time-consuming, less efficient, and could result in an isolated independent mitigation approach that might be less beneficial to the covered species than the proposed regional permit.

Reviewing Documents

You may obtain copies of the DEIS and DHCP on the Service's Web site at http://www.fws.gov/southwest/es/AustinTexas/ or the EARIP Web site at http://earip.org.

Alternatively, you may obtain CD-ROMs with electronic copies of these documents by writing to Mr. Adam Zerrenner, Field Supervisor, U.S. Fish and Wildlife Service, 10711 Burnet Road, Suite 200, Austin, TX 78758; calling 512/490-0057; or faxing 512/490-0974. A limited number of printed copies of the DEIS and DHCP are also available, by request, from Mr. Zerrenner. Copies of the DEIS and DHCP are also available for public inspection and review at the following locations, by appointment and written request only, 8 a.m. to 4:30 p.m.:

• Department of the Interior, Natural Resources Library, 1849 C. St., NW., Washington, DC 20240;

• U.S. Fish and Wildlife Service, 500 Gold Avenue SW., Room 6034, Albuquerque, NM 87102;

• U.S. Fish and Wildlife Service, 10711 Burnet Road, Suite 200, Austin, TX 78758.

Persons wishing to review the application may obtain a copy by writing to the Regional Director, U.S. Fish and Wildlife Service, P.O. Box 1306, Room 6034, Albuquerque, NM 87103.

Public Availability of Comments

Written comments we receive become part of the public record associated with this action. Before including your address, phone number, email address, or other personal identifying information in your comment, you should be aware that your entire comment—including your personal identifying information—may be made publicly available at any time. While you can request in your comment that we withhold your personal identifying information from public review, we cannot guarantee that we will be able to do so. We will not consider anonymous comments. All submissions from organizations or businesses, and from individuals identifying themselves as representatives or officials of organizations or businesses, will be made available for public disclosure in their entirety.

Authority

We provide this notice under section 10(c) of the Act (16 U.S.C. 1531 et seq.) and its implementing regulations (50 CFR 17.22) and NEPA (42 U.S.C. 4321 et seq.) and its implementing regulations (40 CFR 1506.6).

Dated: June 7, 2012.
Joy E. Nicholopoulos,
Acting Regional Director, Southwest Region, Albuquerque, New Mexico.

[FR Doc. 2012-17610 Filed 7-19-12; 8:45 am]

BILLING CODE 4310-55-P